DEPARTMENT OF LABOR

Employment and Training Administration

[TA-W-51,230]

Vanguard EMS, Inc., a/k/a Viasystems Portland, Inc., Beaverton, OR; Notice of Negative Determination on Reconsideration

On July 25, 2003, the Department issued an Affirmative Determination Regarding Application on Reconsideration applicable to workers and former workers of the subject firm. The notice was published in the Federal Register on August 7, 2003 (68 FR 47096).

On April 16, 2003, the Department initially denied TAA to workers of Vanguard EMS, Inc., Beaverton, Oregon a/k/a Viasystems Portland, Inc. that produce circuit boards for projectors because the “contributed importantly” group eligibility requirement of Section 222 of the Trade Act of 1974 was not met.

On reconsideration, the department surveyed additional customers of the subject plant regarding their purchases of circuit boards for projectors during the relevant period. The survey revealed that major declining customer(s) increased their imports of projectors, but not circuit boards for projectors. However, as projectors are not like or directly competitive with circuit boards for projectors produced by the subject firm, there is no evidence of “like or directly competitive” imports contributing importantly to layoffs at the subject firm.

Conclusion

After reconsideration, I affirm the original notice of negative determination of eligibility to apply for worker adjustment assistance for workers and former workers of Vanguard EMS, Inc., Beaverton, Oregon a/k/a Viasystems Portland, Inc., Beaverton, Oregon.

Signed in Washington, DC this 10th day of October 2003.
Elliott S. Kushner,
Certifying Officer, Division of Trade Adjustment Assistance.

[FR Doc. 03-29266 Filed 11-21-03; 8:45 am]

BILLING CODE 4510-30-P